DEPARTMENT OF TRANSPORTATION

Federal Aviation Administration

Notice of Request To Release Airport Property

AGENCY: Federal Aviation Administration (FAA), DOT.

ACTION: Notice of intent to rule on request to release airport property at Strother Field (WLD), Winfield, Kansas.

SUMMARY: The FAA proposes to rule and invites public comment on the release of land at Strother Field (WLD), Winfield, Kansas, under the provisions of 49 U.S.C. 47107(h)(2).

DATES: Comments must be received on or before May 23, 2016.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Shawn M. McGrew, Airport Manager, Strother Field, Cities of Winfield and Arkansas City, P.O. Box 747; 22193 Tupper St., Winfield, KS 67156, (620) 442-4470.

FOR FURTHER INFORMATION CONTACT: Lynn D. Martin, Airports Compliance Specialist, Federal Aviation Administration, Airports Division, ACE-610C, 901 Locust Room 364, Kansas City, MO 64106, (816) 329-2644, lynn.martin@faa.gov.

The request to release property may be reviewed, by appointment, in person at this same location.

SUPPLEMENTARY INFORMATION: The FAA invites public comment on the request to release approximately 4.00+ acres of airport property at Strother Field (WLD) under the provisions of 49 U.S.C. 47107(h)(2). On March 2, 2016, the Airport Manager of Strother Field requested from the FAA that approximately 4.00+ acres of property be released for sale to the Four County Medical Health Center. On April 12, 2016, the FAA determined that the request to release property at Strother Field (WLD) submitted by the Sponsor meets the procedural requirements of the Federal Aviation Administration and the release of the property does not and will not impact future aviation needs at the airport. The FAA may approve the request, in whole or in part, no sooner than thirty days after the publication of this Notice.

The following is a brief overview of the request:

Strother Field (WLD) is proposing the release of a parcel, totaling 4.00+ acres. The release of land is necessary to comply with Federal Aviation Administration Grant Assurances that do not allow federally acquired airport property to be used for non-aviation purposes. The sale of the subject property will result in the land at Strother Field (WLD) being changed from aeronautical to nonaeronautical use and release the surface lands from the conditions of the AIP Grant Agreement Grant Assurances, but retaining any mineral rights. In accordance with 49 U.S.C. 47107(c)(2)(B)(i) and (iii), the airport will receive fair market value for the property, which will be subsequently reinvested in Strother Field wastewater system.

Any person may inspect, by appointment, the request in person at the FAA office listed above under FOR FURTHER INFORMATION CONTACT. In addition, any person may, upon appointment and request, inspect the application, notice and other documents determined by the FAA to be related to the application in person at Strother Field.

Issued in Kansas City, MO on April 15, 2016.
Jim A. Johnson,
Manager, Airports Division.

[FR Doc. 2016-09307 Filed 4-20-16; 8:45 am]

BILLING CODE 4910-13-P